DEPARTMENT OF COMMERCE

Census Bureau

Proposed Information Collection; Comment Request; 2020 New York City Housing and Vacancy Survey

AGENCY: Census Bureau, Commerce.

ACTION: Notice.

SUMMARY: The Department of Commerce, as part of its continuing effort to reduce paperwork and respondent burden, invites the general public and other Federal agencies to take this opportunity to comment on the proposed reinstatement, with change, of the 2020 New York City Housing and Vacancy Survey, as required by the Paperwork Reduction Act of 1995.

DATES: To ensure consideration, written comments must be submitted on or before May 12, 2020.

ADDRESSES: Direct all written comments to Tamara Cole, Survey Director, U.S. Census Bureau, 4600 Silver Hill Road, Room 8H181, Washington, DC 20233 (or via the internet at PRAcomments@doc.gov). You may also submit comments, identified by Docket Number USBC-2019-0007, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Tamara Cole, US Census Bureau, Room 8H181, Washington, DC 20233-8500; phone 301-763-4665; email Tamara.A.Cole@census.gov.

SUPPLEMENTARY INFORMATION

I. Abstract

The New York City Housing and Vacancy Survey (NYCHVS) is sponsored by the New York City Department of Housing Preservation and Development and is conducted approximately every three years. The Census Bureau has conducted the survey for the City since 1962. The primary purpose of the survey is to measure the net rental vacancy rate, and describe the supply, condition, and continued need for rent control and rent stabilization. NYCHVS survey data are also used by policymakers, advocates, and researchers to inform policy and analyze housing costs and conditions in the City.

Detailed data from the survey cover many characteristics of the City's housing market, including characteristics of the City's population, households, housing stock, and neighborhoods. Data collected about each person in the household include housing costs and burden, income and employment, and key demographics, including membership in protected classes. On the household level, the NYCHVS collects data including total housing costs and income, public assistance, healthcare and childcare costs, and residential history. Data on the City's housing stock include building and unit quality and condition, rent regulatory and homeownership status, and unit size and accessibility.

II. Method of Collection

We will attempt to collect all information via a computer-assisted personal interview in English, Spanish, Chinese (both Mandarin and Cantonese), Russian, Haitian Creole, or Bengali. However, upon the respondent's request, a telephone interview may be conducted. Interviews will be conducted with a knowledgeable adult in the household. In the event that the knowledgeable adult is unable to respond on behalf of another adult household member, we will make an effort to follow-up with the second household member to obtain more complete information. We will work to make sure that accommodations are made for respondents that require some form of modification to allow them to complete the interview.

III. Data

The core NYCHVS sample is longitudinal within each decade. The 2020 sample consists of approximately 30,000 housing units.

The Census Bureau releases the resulting survey estimates in non-identifiable microdata and select initial findings in tabular format. Both types of data are also made available to the general public through the Census internet site.

OMB Control Number: 0607-0757.

Form Number(s): None.

Type of Review: Regular submission.

Affected Public: Households and rental offices/realtors (for vacant units).

Estimated Number of Respondents: 30,000.

Estimated Time per Response: 40 minutes.

Estimated Total Annual Burden Hours: 20,000.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: Title 13 U.S.C.—Section 8b, and the Local Emergency Housing Rent Control Act, Laws of New York (Chapters 8603 and 657).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-05193 Filed 3-12-20; 8:45 am]

BILLING CODE 3510-07-P